DEPARTMENT OF COMMERCE

Bureau of the Census

[Docket Number 010209034-2251-07]

Qualifying Urban Areas for Census 2000; Correction

AGENCY: Bureau of the Census, Department of Commerce.

ACTION: Notice.

SUMMARY: On May 1, 2002 (67 FR 21962), the Bureau of the Census (Census Bureau) published a Federal Register Notice listing the areas that qualified as urbanized areas and urban clusters based on the results of Census 2000. The Census Bureau is correcting the lists of urbanized areas and urban clusters.

EFFECTIVE DATE: November 20, 2002.

FOR FURTHER INFORMATION CONTACT: Robert W. Marx, Chief, Geography Division, U.S. Census Bureau, 4700 Silver Hill Road, Stop 7400, Washington, DC 20233-7400; telephone (301) 457-2131; e-mail at: ua@geo.census.gov.

SUPPLEMENTARY INFORMATION: On May 1, 2002 (67 FR 21962), the Census Bureau published a Federal Register Notice listing the areas that qualified as urbanized areas and urban clusters based on the results of Census 2000. The Census Bureau is correcting the lists of urbanized areas and urban clusters. The corrections contained in this Notice are in addition to the corrections that were published in a Federal Register Notice on August 23, 2002 (67 FR 54630). These corrections do not affect the earlier correction Notice.

The Census Bureau is providing the following corrections to the original Notice.

Page 21963, Column 3, Section A., Significant Urbanized Area Changes, Number 4, the Census Bureau is removing Section A.4 that reads as follows: “One 1990 census urbanized area failed to qualify as a Census 2000 urbanized area: Cumberland, MD-WV.” The Census Bureau is removing this Section as a result of a correction to the “Urban Area Criteria for Census 2000” Notice (67 FR 11663; March 15, 2002) that creates a Census 2000 urbanized area for the Cumberland, MD-WV-PA area. The criteria correction is being published in a separate Notice in this issue of the Federal Register.

Page 21965, Column 3, Section B., List of Urbanized Areas, the Census Bureau is adding “Cumberland, MD-WV-PA 52,115” to the list of urbanized areas, as the 28th list item in Column 3 following Corvallis, OR. The Cumberland, MD-WV-PA, Urbanized Area includes the area in the previously published Census 2000 Cumberland, MD-WV-PA, Urban Cluster and the Frostburg, MD, Urban Cluster. This correction is being made as a result of a correction to the Urban Area Criteria for Census 2000. The former separate urban clusters of Cumberland, MD-WV-PA, and Frostburg, MD, are no longer recognized.

Executive Order 12866

This Notice is not significant for purposes of Executive Order 12866.

Administrative Procedure and Regulatory Flexibility Acts

Because a Notice and opportunity for public comment are not required by 5 U.S.C. 553, or any other law, for lists of urbanized areas, this Notice is not subject to the analytical requirements of the Regulatory Flexibility Act. Thus, a Regulatory Flexibility Analysis is not required and none has been prepared (5 U.S.C. 603(a)).

Paperwork Reduction Act

This Notice does not represent a collection of information subject to the requirements of the Paperwork Reduction Act, Title 44, U.S.C., Chapter 35.

Dated: November 15, 2002.
Charles Louis Kincannon,
Director, Bureau of the Census.

[FR Doc. 02-29464 Filed 11-19-02; 8:45 am]

BILLING CODE 3510-07-P